DEPARTMENT OF COMMERCE

Foreign-Trade Zones Board

[Order No. 1341]

Expansion of Foreign-Trade Zone 219; Yuma, AZ, Area

Pursuant to its authority under the Foreign-Trade Zones Act of June 18, 1934, as amended (19 U.S.C. 81a-81u), the Foreign-Trade Zones Board (the Board) adopts the following Order:

Whereas, the Yuma County Airport Authority, Inc., grantee of Foreign-Trade Zone 219, submitted an application to the Board for authority to expand FTZ 219 to include a site (75 acres) at the warehouse facility of Big Industrial, LLC, in Somerton (Site 3), and to formally terminate Subzone 219A (Meadowcraft), within the San Luis Customs port of entry (FTZ Docket 57-2003; filed 11/3/03);

Whereas, notice inviting public comment was given in the Federal Register (68 FR 64852, 11/17/03) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 219 and to terminate Subzone 219A (Meadowcraft) is approved, subject to the Act and the Board's regulations, including § 400.28.

Attest:

Pierre V. Duy,

Acting Executive Secretary.

Signed at Washington, DC, this 25th day of June 2004.
James J. Jochum,
Assistant Secretary of Commerce for Import Administration, Alternate Chairman, Foreign-Trade Zones Board.

[FR Doc. 04-15235 Filed 7-2-04; 8:45 am]

BILLING CODE 3510-DS-P